FEDERAL COMMUNICATIONS COMMISSION

47 CFR Part 64

[WC Docket Nos. 23-62, 12-375; DA 23-469, FR ID 146569]

Incarcerated People's Communications Services; Implementation of the Martha Wright-Reed Act; Rates for Interstate Inmate Calling Services; Extension of Comment Periods

AGENCY: Federal Communications Commission.

ACTION: Proposed rules; extension of reply comment periods.

SUMMARY: In this document, the Federal Communications Commission (Commission) extends the reply comment period of a notice of proposed rulemaking, FCC 23-19 (Document 23-19), and the reply comment period of a proposed rule, DA 23-355 (Document 23-355), in this proceeding.

DATES: The reply comments period for the notice of proposed rulemaking (FCC 23-19) published at 88 FR 20804 on April 7, 2023, is extended to July 12, 2023, and the reply comments to the proposed rule (DA 23-355) published at 88 FR 27850 on May 3, 2023, is extended to June 27, 2023.

ADDRESSES: You may submit comments, identified by WC Docket Nos. 23-62, 12-375, by any of the following methods:

Electronic Filers: Comments may be filed electronically using the internet by accessing the Commission's Electronic Comment Filing System (ECFS): https://www.fcc.gov/ecfs/filings.

Paper Filers: Parties who choose to file by paper must file an original and one copy of each filing. If more than one docket or rulemaking number appears in the caption of this proceeding, filers must submit two additional copies for each additional docket or rulemaking number.

Filings can be sent by commercial overnight courier, or by first-class or overnight U.S. Postal Service mail. All filings must be addressed to the Commission's Secretary, Office of the Secretary, Federal Communications Commission.

Commercial overnight mail (other than U.S. Postal Service Express Mail and Priority Mail) must be sent to 9050 Junction Drive, Annapolis Junction, MD 20701.

U.S. Postal Service first-class, Express, and Priority mail must be addressed to 45 L Street NE, Washington, DC 20554.

Effective March 19, 2020, and until further notice, the Commission no longer accepts any hand or messenger delivered filings. This is a temporary measure taken to help protect the health and safety of individuals, and to mitigate the transmission of COVID-19.

People with Disabilities: Contact the FCC to request reasonable accommodations (accessible format documents, sign language interpreters, CART, etc.) by email: FCC504@fcc.gov or phone: 202-418-0530 (voice), 202-418-0432 (TTY).

FOR FURTHER INFORMATION CONTACT: Refer to the Federal Register summary of April 7, 2023, or contact Ahuva Battams, Wireline Competition Bureau, Pricing Policy Division, (202) 418-1565 or ahuva.battams@fcc.gov.

SUPPLEMENTARY INFORMATION: This is a summary of the Wireline Competition Bureau's (the Bureau) Order, DA 23-469, granting the Motion for Extension of Time filed on May 23, 2023 by the Wright Petitioners, Benton Institute for Broadband & Society, Public Knowledge, Stephen A. Raher, United Church of Christ Media Justice Ministry, and Worth Rises (collectively, the Public Interest Parties) in the relevant dockets. The Bureau also grants in part and denies in part the Response to the Public Interest Parties' Motion for Extension of Time filed on May 26, 2023, by Securus Technologies, LLC. The Bureau denies Securus's request for an extension for comments on the proposed rule (Document 23-19) and an extension for comments on the document and request for comments published in the Federal Register, 88 FR 27885.

Federal Communications Commission.
Lynne Engledow,
Deputy Chief, Pricing Policy Division, Wireline Competition Bureau.

[FR Doc. 2023-12191 Filed 6-8-23; 8:45 am]

BILLING CODE 6712-01-P